DEPARTMENT OF COMMERCE

International Trade Administration

Initiation of Antidumping and Countervailing Duty Administrative Reviews

AGENCY: Import Administration, International Trade Administration, Department of Commerce.

ACTION: Notice of Initiation of Antidumping and Countervailing Duty Administrative Reviews.

SUMMARY: The Department of Commerce has received requests to conduct administrative reviews of various antidumping and countervailing duty orders and findings with December anniversary dates. In accordance with our regulations, we are initiating those administrative reviews.

EFFECTIVE DATE: January 26, 2000.

FOR FURTHER INFORMATION CONTACT: Holly A. Kuga, Office of AD/CVD Enforcement, Import Administration, International Trade Administration, U.S. Department of Commerce, 14th Street and Constitutional Avenue, NW., Washington, DC 20230, telephone: (202) 482-4737.

SUPPLEMENTARY INFORMATION:

Background

The Department of Commerce (the Department) has received timely requests, in accordance with 19 CFR 351.213(b)(1997), for administrative reviews of various antidumping and countervailing duty orders and findings with December anniversary dates.

Initiation of Reviews

In accordance with section 19 CFR 351.221(c)(1)(i), we are initiating administrative reviews of the following antidumping and countervailing duty orders and findings. We intend to issue the final results of these reviews not later than December 31, 2000.

| Period to be reviewed
Antidumping duty proceedings
Canada: A-122-047
Elemental Sulphur | 12/1/98-11/30/99
Husky Oil Limited
Petrosul International
Chile: A-337-804
Certain Preserved Mushrooms | 8/5/98-11/30/99
Nature's Farm Products
Ravine Foods
Japan: A-588-046
Polychloroprene Rubber | 12/1/98-11/30/99
Denki Kagaku Kogyo Kabushiki Kaisha
Tosoh Corporations
Mexico: A-201-504
Porcelain-On-Steel Cooking Ware | 12/1/98-11/30/99
Cinsa, S.A. de C.V.
Esmaltactiones de Norte America, S.A. de C.V.
Republic of Korea: A-580-810 | 12/1/98-11/30/99
Welded ASTM A-312 Stainless Steel Pipe |
SeAH Steel Corporation, Ltd.
Taiwan: A-583-815 | 12/1/98-11/30/99
Welded ASTM A-312 Stainless Steel Pipe |
Ta Chen Stainless Steel Pipe
The People's Republic of China: A-570-827 | 12/1/98-11/30/99
Certain Cased Pencils * |
China First Pencil Company, Ltd.
China Second Pencil Company, Ltd.
Shanghai Three Star Stationery Company, Ltd.
Beijing Pencil Factory
Dalian Pencil Factory
Donghua Pencil Factory
Harbin Pencil Factory
Jiangsu Pencil Factory
Jinan Pencil Factory
Juihai Pencil Factory
Julong Pencil Factory
Qingdao Pencil Factory
Shenyiang Pencil Factory
Songnan Pencil Factory
Tianjin Pencil Factory
Xinbang Joint Venture Pencil Factory
Anhui Import/Export Group Corporation
Anhui Light Industrial Products I/E Corporation
Anhui Provincial Imports & Exports Corporation
Beijing Light Industrial Products I/E Corp.
China First Pencil Company, Ltd.
China Second Pencil Company, Ltd.
China National Light Industrial Products Import & Export Corporation (all branches)
Dalian Light Industrial Products Import/Export Corporation
Jiangsu Light Industrial Products Import/Export Group Corp.
Jilin Provincial Machinery & Equipment Import & Export Corporation
Liaoning Light Industrial Products Import/Export Corporation
Qingdao Light Industrial Products Import/Export Corporation
Shandong Light Industrial Products Import/Export Corporation
Sichuan Light Industrial Products Import/Export Corporation
Tianjin Stationery and Sporting Goods Import/Export Corporation
Zhenjiang Foreign Trade Corporation
Laizhou City Guangming Pencil-Making Lead Co., Ltd.
*If one of the above named companies does not qualify for a separate rate, all other exporters of certain cased pencils from the People's Republic of China who have not qualified for a separate rate are deemed to be covered by this review as part of the single PRC entity of which the named exporters are a part.
The People's Republic of China: A-570-506 | 12/1/98-11/30/99
Porcelain-O-Steel Cooking Ware * |
Clover Enamelware Enterprises, Ltd.
Lucky Enamelware Factory Limited
*If one of the above named companies does not qualify for a separate rate, all other exporters of porcelain-on-steel cooking ware from the People's Republic of China who have not qualified for a separate rate are deemed to be covered by this review as part of the single PRC entity of which the named exporters are a part.
Countervailing Duty Proceedings
None.
Suspension Agreements
None.

During any administrative review covering all or part of a period falling between the first and second or third and fourth anniversary of the publication of an antidumping duty order under section 351.211 or a determination under section 351.218(d) (sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

For transition orders defined in section 751(c)(6) of the Act, the Secretary will apply paragraph (j)(1) of this section to any administrative review initiated in 1998 (19 CFR 351.213(j)(1-2)).

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 20, 2000.
Holly A. Kuga,
Acting Deputy Assistant Secretary for Group II, AD/CVD Enforcement.

[FR Doc. 00-1851 Filed 1-25-00; 8:45 am]

BILLING CODE 3510-DS-M